DEPARTMENT OF HEALTH AND HUMAN SERVICES

Centers for Disease Control and Prevention

Ethics Subcommittee, Advisory Committee to the Director, Centers for Disease Control and Prevention (CDC); Meeting

In accordance with section 10(a)(2) of the Federal Advisory Committee Act (Pub. L. 92-463), the Centers for Disease Control and Prevention announces the following Subcommittee meeting.

Name: Ethics Subcommittee, Advisory Committee to the Director (ACD), CDC.

Times and Dates: 8:30 a.m.-5 p.m., September 14, 2006; 8:30 a.m.-12 p.m., September 15, 2006.

Place: Centers for Disease Control and Prevention, Tom Harkin Global Communications Center (Building 19), 1600 Clifton Road, Atlanta, GA 30333.

Status: Open to the public, limited only by the space available. The meeting room accommodates approximately 75 people.

Purpose: The Ethics Subcommittee will provide counsel to the ACD, CDC, regarding a broad range of public health ethics questions and issues arising from programs, scientists and practitioners.

Matters to Be Discussed: Agenda items will include discussions in Public Health Ethics of Emergency Response; Ethical Considerations in Pandemic Influenza Preparedness; and Future Direction of the Ethics Subcommittee. Agenda items are subject to change as priorities dictate.

FOR FURTHER INFORMATION CONTACT: For security reasons, please contact Drue Barrett, Ph.D., Designated Federal Official, Ethics Subcommittee, CDC, 1600 Clifton Road, NE., M/S D-50, Atlanta, Georgia 30333. Telephone 404/639-4690. E-mail: dbarrett@cdc.gov. The deadline for notification of attendance is September 7, 2006.

The Director, Management Analysis and Services Office, has been delegated the authority to sign Federal Register notices pertaining to announcements of meetings and other committee management activities, for both the Centers for Disease Control and Prevention and the Agency for Toxic Substances and Disease Registry.

Dated: August 9, 2006.
Alvin Hall,
Director, Management Analysis and Services Office, Centers for Disease Control and Prevention.

[FR Doc. E6-13452 Filed 8-15-06; 8:45 am]

BILLING CODE 4163-18-P